DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Full Committee Meeting.

Time And Date:

September 20, 2012 9 a.m.-3 p.m. EST

September 21, 2012 10 a.m.-1:50 p.m. EST

Place: U.S. Department of Health and Human Services, Hubert Humphrey Building, Rm. 705-A, Washington, DC 20201.

Status: Open.

Purpose: At this meeting the Committee will hear presentations and hold discussions on several health data policy topics. On the morning of the first day the Committee will hear updates from the Department (HHS), the Centers for Medicare and Medicaid Services (CMS), and the Office of the National Coordinator (ONC). There will also be discussion of items for approval: (1) Report on Data Stewardship for Community Health Data; and after the lunch break, (2) recommendation letter on Code Sets, Operating Rules and Administrative Simplification. In addition, a status update will be given on NCVHS's Working Group on Data Access and Use; and the Committee will deliberate briefly on follow-up from the August 9th Executive Subcommittee Strategic Planning Session.

The agenda for the morning of the second day will consist of a review of the final action items discussed on the first day; and reports from the Subcommittees. After lunch, the Committee will be briefed on de-identification methods for Open Health data. Once the full Committee adjourns, NCVHS's Working Group on Data Access and Use will convene to discuss anticipated work products and logistical plans. Further information will be provided on the NCVHS Web site at http://www.ncvhs.hhs.gov/.

The times shown above are for the full Committee meeting. Subcommittee breakout sessions are scheduled for late in the afternoon on the first day and in the morning prior to the full Committee meeting on the second day. Agendas for these breakout sessions will be posted on the NCVHS Web site (URL below) when available.

Contact Person for More Information: Substantive program information as well as summaries of meetings and a roster of committee members may be obtained from Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http://www.ncvhs.hhs.gov/, where further information including an agenda will be posted when available.

Should you require reasonable accommodation, please contact the CDC Office of Equal Employment Opportunity on (301) 458-4EEO (4336) as soon as possible.

Dated: August 29, 2012.
James Scanlon,
Deputy Assistant Secretary for Planning and Evaluation, Office of the Assistant Secretary for Planning and Evaluation.

[FR Doc. 2012-22102 Filed 9-6-12; 8:45 am]

BILLING CODE 4151-05-P